ENVIRONMENTAL PROTECTION AGENCY

40 CFR Part 63

[EPA-HQ-OAR-2011-0817; FRL-9933-76-OAR]

RIN 2060-AQ93

National Emission Standards for Hazardous Air Pollutants for the Portland Cement Manufacturing Industry and Standards of Performance for Portland Cement Plants; Correction

AGENCY: Environmental Protection Agency (EPA).

ACTION: Final rule; correcting amendments.

SUMMARY: The Environmental Protection Agency (EPA) published a final rule in the Federal Register on July 27, 2015, titled National Emission Standards for Hazardous Air Pollutants for the Portland Cement Manufacturing Industry and Standards of Performance for Portland Cement Plants. This final rule makes technical corrections and clarifications to the regulations published in that final rule. The rule also includes a provision describing performance testing requirements when a source demonstrates compliance with the hydrochloric acid (HCl) emissions standard using a continuous emissions monitoring system (CEMS) for sulfur dioxide measurement and reporting.

DATES: Effective September 9, 2015.

FOR FURTHER INFORMATION CONTACT: Ms. Sharon Nizich, Sector Policies and Programs Division (D243-04), Office of Air Quality Planning and Standards, U.S. Environmental Protection Agency, Research Triangle Park, North Carolina 27711, telephone number: (919) 541-2825; facsimile number: (919) 541-5450; email address: nizich.sharon@epa.gov. For information about the applicability of the national emission standards for hazardous air pollutants or new source performance standards, contact Mr. Patrick Yellin, Monitoring, Assistance and Media Programs Division (2227A), Office of Enforcement and Compliance Assurance, U.S. Environmental Protection Agency, 1200 Pennsylvania Avenue, Washington, DC 20460; telephone number (202) 564-2970; email address yellin.patrick@epa.gov.

SUPPLEMENTARY INFORMATION:

Summary of Technical Corrections

The EPA received communications from representatives of the Portland cement industry on five occasions in August 2015 (see memo to the docket (EPA-HQ-OAR-2011-0817) titled, “Communications on Errors PCA August 2015”). These communications outlined several errors in the regulatory text of the final rule (80 FR 44772). These all pertain to monitoring requirements. The EPA agrees that these are errors (typographical and unintended phrasing or omissions), and is correcting these errors in this document. We are also removing two passages (which consisted of four sentences) that were inadvertently left in the final amendments, but were discussed by the EPA as being removed in the Response to Comment (RTC) document for the final amendments (see docket item EPA-HQ-OAR-2011-0817-0870, page 8). In the RTC, we discussed that data substitution is not an allowed practice when determining compliance, but these four sentences discuss procedures for data substitution. Leaving these sentences in the rule, thus, does not reflect the EPA's stated intention, and would lead to confusion given the direct conflict between the RTC document and the rule text.

We are making one further technical correction involving timing of performance tests. The correction keeps in place the specified time by which performance tests must be conducted, but will no longer set out a window of time in which the test must be conducted. The net effect is that performance tests can be conducted earlier than the window of time in the current rule text if a source desires to conduct its performance test earlier. The EPA had already indicated in the RTC document that it was making this change (see docket item EPA-HQ-OAR-2011-0817-0870, page 5). The EPA regards this amendment as a clarification (the current rule could be interpreted to allow earlier testing) so that the rule reads precisely as intended, as stated by the EPA in the RTC document.

List of Subjects in 40 CFR Part 63

Environmental protection, Administrative practice and procedure, Air pollution control, Hazardous substances, Intergovernmental relations, Reporting and recordkeeping requirements.

For the reasons set out in the preamble, title 40, chapter I of the Code of Federal Regulations is amended as follows:

PART 63—NATIONAL EMISSION STANDARDS FOR HAZARDOUS AIR POLLUTANTS FOR SOURCE CATEGORIES

1. The authority citation for part 63 continues to read as follows:

Authority: 42 U.S.C. 7401, et seq.

2. Amend § 63.1349 by:

a. In paragraph (b)(4)(i), removing “ppmvd” and adding in its place “ppmvw”.

b. In paragraph (b)(7)(v), revising the second sentence.

c. In paragraph (c), revising the second sentence.

The revisions read as follows:

§ 63.1349 Performance testing requirements.

* * * * *

(b) * * *

(7) * * *

(v)* * * You are required to measure oHAP at the coal mill inlet or outlet and you must also measure oHAP at the alkali bypass outlet. * * *

* * * * *

(c) * * * Performance tests required every 30 months must be completed no more than 31 calendar months after the previous performance test except where that specific pollutant is monitored using CEMS; performance tests required every 12 months must be completed no more than 13 calendar months after the previous performance test.

* * * * *

3. Amend § 63.1350 by:

a. In paragraph (k)(2)(ii), revising the last sentence.

b. Revising paragraph (k)(2)(iii).

c. In paragraph (l)(1) introductory text, revising the last sentence.

d. In paragraph (l)(1)(ii)(B), revising the last sentence.

e. In paragraph (l)(1)(ii)(C), removing the last two sentences.

The revisions read as follows:

§ 63.1350 Monitoring requirements.

* * * * *

(k) * * *

(2) * * *

(ii) * * * In this manner all hourly average values exceeding the span value measured by the Hg CEMS during the week following the above span linearity challenge when the CEMS response exceeds +/−20 percent of the certified value of the reference gas must be normalized using Equation 22.

(iii) Quality assure any data above the span value established in paragraph (k)(1) of this section using the following procedure. Any time two consecutive one-hour average measured concentrations of Hg exceeds the span value you must, within 24 hours before or after, introduce a higher, “above span” Hg reference gas standard to the Hg CEMS. The “above span” reference gas must meet the requirements of PS 12A, Section 7.1, must target a concentration level between 50 and 150 percent of the highest expected hourly concentration measured during the period of measurements above span, and must be introduced at the probe. While this target represents a desired concentration range that is not always achievable in practice, it is expected that the intent to meet this range is demonstrated by the value of the reference gas. Expected values may include “above span” calibrations done before or after the above span measurement period. Record and report the results of this procedure as you would for a daily calibration. The “above span” calibration is successful if the value measured by the Hg CEMS is within 20 percent of the certified value of the reference gas. If the value measured by the Hg CEMS exceeds 20 percent of the certified value of the reference gas, then you must normalize the one-hour average stack gas values measured above the span during the 24-hour period preceding or following the “above span” calibration for reporting based on the Hg CEMS response to the reference gas as shown in equation 22 below. Only one “above span” calibration is needed per 24 hour period.

* * * * *

(l) * * *

(1) * * * The span value and calibration requirements in paragraphs (l)(1)(i) and (ii) of this section apply to HCl CEMS other than those installed and certified under PS 15.

* * * * *

(ii) * * *

(B) * * * Any HCl CEMS above span linearity challenge response exceeding +/−20 percent of the certified value of the reference gas requires that all above span hourly averages during the week following the above span linearity challenge must be normalized using Equation 23.

* * * * *

Dated: September 2, 2015.
Janet G. McCabe,
Acting Assistant Administrator, Office of Air and Radiation.

[FR Doc. 2015-22945 Filed 9-9-15; 4:15 pm]

BILLING CODE 6560-50-P